DEPARTMENT OF EDUCATION

Applications for New Awards; Personnel Development To Improve Services and Results for Children With Disabilities—Early Childhood Personnel Equity Center

AGENCY: Office of Special Education and Rehabilitative Services, Department of Education.

ACTION: Notice.

SUMMARY: The Department of Education (Department) is issuing a notice inviting applications for new awards for fiscal year (FY) 2022 for the Early Childhood Personnel Equity Center, Assistance Listing Number 84.325C. This notice relates to the approved information collection under OMB control number 1820-0028.

DATES:

Applications Available: March 17, 2022.

Deadline for Transmittal of Applications: May 16, 2022.

Deadline for Intergovernmental Review: July 15, 2022.

Pre-Application Webinar Information: No later than March 22, 2022, the Office of Special Education and Rehabilitative Services (OSERS) will post details on pre-recorded informational webinars designed to provide technical assistance to interested applicants. Links to the webinars may be found at www2.ed.gov/fund/grant/apply/osep/new-osep-grants.html.

ADDRESSES: For the addresses for obtaining and submitting an application, please refer to our Common Instructions for Applicants to Department of Education Discretionary Grant Programs, published in the Federal Register on December 27, 2021 (86 FR 73264) and available at www.federalregister.gov/d/2021-27979. Please note that these Common Instructions supersede the version published on February 13, 2019, and, in part, describe the transition from the requirement to register in SAM.gov a Data Universal Numbering System (DUNS) number to the implementation of the Unique Entity Identifier (UEI). More information on the phase-out of DUNS numbers is available at https://www2.ed.gov/about/offices/list/ofo/docs/unique-entity-identifier-transition-fact-sheet.pdf.

FOR FURTHER INFORMATION CONTACT: Tracie Dickson, U.S. Department of Education, 400 Maryland Avenue SW, Room 5176, Potomac Center Plaza, Washington, DC 20202-5076. Telephone: (202) 245-7844. Email: Tracie.Dickson@ed.gov.

If you use a telecommunications device for the deaf (TDD) or a text telephone (TTY), call the Federal Relay Service (FRS), toll free, at 1-800-877-8339.

SUPPLEMENTARY INFORMATION:

Full Text of Announcement

I. Funding Opportunity Description

Purpose of Program: The purposes of this program are to (1) help address State-identified needs for personnel preparation in special education, early intervention, related services, and regular education to work with children, including infants and toddlers, with disabilities; and (2) ensure that those personnel have the necessary skills and knowledge, derived from practices that have been determined through scientifically based research and experience, to be successful in serving those children.

Priority: This competition includes one absolute priority. In accordance with 34 CFR 75.105(b)(2)(v), this priority is from allowable activities specified in the statute (see sections 662 and 681(d) of the Individuals with Disabilities Education Act (IDEA); 20 U.S.C. 1462 and 1481(d)).

Absolute Priority: For FY 2022 and any subsequent year in which we make awards from the list of unfunded applications from this competition, this priority is an absolute priority. Under 34 CFR 75.105(c)(3), we consider only applications that meet this priority.

This priority is:

Early Childhood Personnel Equity Center.

Background:

All children have the right to equitable learning opportunities. Enhancing equity within the early childhood system requires a specific focus on preservice preparation so that the future workforce is racially, ethnically, and linguistically diverse and has the competencies to support the developmental and learning needs of the increasing population of infants, toddlers, and preschool children (young children) from racially, ethnically, and linguistically diverse backgrounds. Approximately 50 percent of infants and toddlers in the United States are children of color (ZERO TO THREE, 2021), one in four young children are learning both a home language and English simultaneously (Luo, Song, Villacis, & Santiago-Bonilla, 2021). This trend is reflected in the IDEA Section 618 data submitted by States that shows a substantial number of children and families from racially, ethnically, and linguistically diverse backgrounds enrolled in IDEA Part C and Part B, Section 619 with 50 percent of infants and toddlers and 48 percent of preschool children identified as racially, ethnically, and linguistically diverse (U.S. Department of Education, 2020).

To support the developmental needs of young children and their families from racially, ethnically, and linguistically diverse backgrounds, it is essential that preservice preparation programs are intentionally designed to prepare early childhood personnel to serve young children and their families in their communities (Cochran-Smith et al., 2016). Currently, most early childhood preservice preparation programs do not consistently provide programs of study that are both equity-based and competency-aligned (Cochran-Smith et al., 2016; National Center on Early Childhood Development, Teaching, and Learning, 2018). An equity-based program of study includes, but is not limited to, developing scholars' understanding of dual language learning, disability, systemic racism, and the role of cultural inclusivity in learning; implicit bias and its manifestation in decision making; individualized pedagogy and assessment methods; and building partnerships with diverse families.

Current research demonstrates that the diversity of the early childhood setting and staff, and the caregiver-child relationship, are important considerations for meeting children's developmental and learning needs during the early years (Accavitti & Williford, 2020; James & Iruka, 2018). For example, caregiver-child relationships are positively impacted by increased racial, ethnic, and linguistic diversity, including more positive caregiver perceptions, particularly around behavior (Kunemund et al., 2020). While having a diverse workforce is necessary to improve outcomes for young children and families from racially, ethnically, and linguistically diverse backgrounds, the demographics of personnel entering the early intervention and special education fields do not reflect the demographics of the young children and families served under IDEA. Data from the Personnel Development Program Data Collection System (PDPDCS) show that graduates from OSEP-supported personnel preparations programs are more likely to be White. Specifically, the race/ethnicity of funded scholars was 62 percent White, 14 percent Hispanic, 9 percent Black, 3 percent Asian, and 12 percent unreported (U.S. Department of Education, OSEP, 2021).

Many individuals from racially, ethnically, and linguistically diverse backgrounds experience systemic barriers to accessing and successfully completing comprehensive preparation programs. Increasing the diversity of faculty is one strategy that has proven successful in removing barriers to graduation for scholars from racially, ethnically, and linguistically diverse backgrounds. College faculty from racially, ethnically, and linguistically diverse backgrounds increased in the United States over the past two decades, but faculty are still disproportionately more likely to be White (U.S. Department of Education, National Center for Education Statistics, 2020). This is true in early intervention and special education, as PDPDCS data show that graduates of OSEP-supported doctoral programs, who often accept faculty positions upon graduation, were 78 percent White, 5 percent Hispanic, 6 precent Black, 6 percent Asian, and 5 percent unreported. (U.S. Department of Education, OSEP, 2021). Research shows that there is a correlation between preservice scholar performance and the increased racial, ethnic, and linguistic backgrounds of faculty. For example, a study looking at community college classrooms found that performance gaps of scholars of color can close by 20 to 50 percent if faculty more closely resemble scholars (Davis & Fry, 2019). When taught by faculty from racially, ethnically, and linguistically diverse backgrounds, scholars from diverse backgrounds obtain better grades (Carver-Thomas, 2018), are less likely to drop a course, are more likely to pass a course, and are more likely to complete the degree requirements that lead to graduation (Marchitello & Trinidad, 2019).

This Center will advance the Secretary's priorities related to supporting a diverse educator workforce and professional growth to strengthen student learning.

Priority:

The purpose of this priority is to fund a cooperative agreement to establish and operate a national Early Childhood Personnel Equity Center to improve outcomes for young children with disabilities by increasing the number of early childhood personnel ¹ and faculty from racially, ethnically, and linguistically diverse backgrounds and enhancing equity content within early childhood preparation programs ² to ensure that early childhood personnel have the necessary knowledge, skills, competencies, and dispositions to deliver equitable evidence-based interventions and services to young children with disabilities and their families.

¹ For the purposes of this priority, “early childhood personnel” include early childhood educators, early interventionists, early childhood special educators, and related services providers that provide services to young children with disabilities and their families.

² For the purposes of this priority, “early childhood preparation programs” include associate, bachelor's, master's, and doctoral programs that prepare early childhood personnel.

The project must achieve, at a minimum, the following expected outcomes:

(a) Increased capacity of institutions of higher education (IHEs) with early childhood preparation programs to develop, implement, and sustain a program of study centered within an equity framework that is aligned with national professional organization personnel standards, State personnel standards, and evidence-based practices (EBPs); ³

³ For the purposes of this priority, “evidence-based practices” means practices that, at a minimum, demonstrate a rationale (as defined in 34 CFR 77.1), where a key project component included in the project's logic model is informed by research or evaluation findings that suggest the project component is likely to improve relevant outcomes.

(b) Increased capacity of States to revise and implement State personnel standards so that they are aligned to national professional organization personnel standards and define the knowledge, skills, competencies, and dispositions that early childhood personnel need to deliver equitable interventions and services for young children with disabilities and their families;

(c) Increased capacity of IHEs at the associate, bachelor's, master's, and doctoral levels to attract, prepare, and graduate scholars from racially, ethnically, and linguistically diverse backgrounds that will lead to an early childhood workforce that is more diverse;

(d) Increased capacity of States, local educational agencies (LEAs), and early intervention service providers to address personnel shortages by partnering with IHEs to develop an infrastructure and implement programs and incentives that attract, prepare, and graduate scholars from racially, ethnically, and linguistically diverse backgrounds at the associate, bachelor's, master's, and doctoral levels and support them to enter and stay in the early childhood profession; and

(e) Increased capacity of IHEs to recruit and retain faculty from racially, ethnically, and linguistically diverse backgrounds to improve scholar engagement and retention in early childhood preparation programs.

In addition to these programmatic requirements, to be considered for funding under this priority, applicants must meet the application and administrative requirements in this priority, which are:

(a) Demonstrate, in the narrative section of the application under “Significance,” how the proposed project will—

(1) Address current and emerging needs to strengthen early childhood preservice preparation to ensure that the early childhood workforce is prepared to serve young children with disabilities and their families who are from racially, ethnically, and linguistically diverse backgrounds. To meet this requirement, the applicant must—

(i) Demonstrate knowledge of equity issues within early childhood education and the role of personnel preparation in addressing these issues;

(ii) Present applicable data demonstrating the need for IHEs to strengthen early childhood preservice programs of study so that they are centered within an equity framework to prepare personnel to deliver equitable interventions and services for young children with disabilities and their families; and

(iii) Demonstrate knowledge of the current research on equity-centered programs of study in early childhood; and the current capacity of faculty in IHEs to develop, implement, and sustain a program of study centered within an equity framework to prepare personnel to deliver equitable interventions and services for young children with disabilities and their families;

(2) Address the current and emerging needs of early childhood preparation programs to attract, prepare, and graduate scholars from racially, ethnically, and linguistically diverse backgrounds from the associate, bachelor's, master's, and doctoral levels. To meet this requirement, the applicant must—

(i) Present national and State data on the current need to increase early childhood personnel from racially, ethnically, and linguistically diverse backgrounds and research on the benefits of having an early childhood workforce that is diverse;

(ii) Demonstrate knowledge of the current research and policy initiatives related to increasing scholars from racially, ethnically, and linguistically diverse backgrounds in early childhood preparation programs; and

(iii) Present information on the current capacity of early childhood preparation programs to implement strategies such as policies that support the admission of scholars from racially, ethnically, and linguistically diverse backgrounds; provide financial and academic support and mentoring; and establish articulation agreements to attract, prepare, and graduate scholars from racially, ethnically, and linguistically diverse backgrounds that better meet the personnel needs in States;

(3) Address the needs of States to partner with IHEs to address the current shortages of personnel and to ensure that the early childhood workforce is racially, ethnically, and linguistically diverse and prepared to serve young children with disabilities and their families from racially, ethnically, and linguistically diverse backgrounds. To meet this requirement, the applicant must—

(i) Present applicable data on how States' personnel standards are aligned to national professional organization personnel standards and address the skills, knowledge, competencies, and dispositions needed to deliver equitable interventions and services for young children with disabilities and their families, and how early childhood preparation programs align programs of study to State personnel standards; and

(ii) Present information on the current capacity of States to partner with IHEs to implement strategies such as financial support, incentives, and career ladders to attract, prepare, and retain early childhood personnel from racially, ethnically, and linguistically diverse backgrounds;

(4) Address the needs of IHEs to attract and retain faculty from racially, ethnically, and linguistically diverse backgrounds into early childhood preparation programs. To meet this requirement, the applicant must—

(i) Present national and State data on the current need to increase faculty from racially, ethnically, and linguistically diverse backgrounds in early childhood preparation programs and research on the benefits of having faculty from racially, ethnically, and linguistically backgrounds;

(ii) Demonstrate knowledge of the current research and policy initiatives related to increasing faculty from racially, ethnically, and linguistically diverse backgrounds in early childhood preparation programs; and

(iii) Present information on the current capacity of early childhood preparation programs to implement strategies such as collaborative networks and mentoring to advance retention, promotion, and tenure as well as post-tenure support to attract and retain faculty from racially, ethnically, and linguistically diverse backgrounds; and

(5) Improve the capacity of the early childhood workforce to deliver equitable interventions and services for young children with disabilities and their families, and the likely magnitude or importance of this improvement.

(b) Demonstrate, in the narrative section of the application under “Quality of project services,” how the proposed project will—

(1) Ensure equal access and treatment for members of groups that have traditionally been underrepresented based on race, color, national origin, gender, age, or disability. To meet this requirement, the applicant must describe how it will—

(i) Identify the needs of the intended recipients for TA and information; and

(ii) Ensure that services and products meet the needs of the intended recipients of the grant;

(2) Achieve its goals, objectives, and intended outcomes. To meet this requirement, the applicant must provide—

(i) Measurable intended project outcomes; and

(ii) In Appendix A, the logic model ⁴ by which the proposed project will achieve its intended outcomes that depicts, at a minimum, the goals, activities, outputs, and intended outcomes of the proposed project;

⁴ Logic model (34 CFR 77.1) (also referred to as a theory of action) means a framework that identifies key project components of the proposed project (i.e., the active “ingredients” that are hypothesized to be critical to achieving the relevant outcomes) and describes the theoretical and operational relationships among the key project components and relevant outcomes.

(3) Use a conceptual framework (and provide a copy in Appendix A) to develop project plans and activities, describing any underlying concepts, assumptions, expectations, beliefs, or theories, as well as the presumed relationships or linkages among these variables, and any empirical support for this framework;

Note: The following websites provide more information on logic models and conceptual frameworks: www.osepideasthatwork.org/logicModel and www.osepideasthatwork.org/resources-grantees/program-areas/ta-ta/tad-project-logic-model-and-conceptual-framework.

(4) Be based on current research and make use of EBPs. To meet this requirement, the applicant must describe—

(i) The current research on frameworks and key components of an equity-based program of study; strategies to attract, prepare, and graduate scholars from racially, ethnically, and linguistically diverse backgrounds in preparation programs; strategies to attract and retain faculty from racially, ethnically, and linguistically diverse backgrounds in early childhood preparation programs; and capacity building of IHE and State partnerships to attract, prepare, and retain an early childhood workforce that is racially, ethnically, and linguistically diverse;

(ii) The current research about adult learning principles and implementation science that will inform the proposed TA to IHEs, faculty, and States; and

(iii) How the proposed project will incorporate current research and practices in the development and delivery of its products and services;

(5) Develop products and provide services that are of high quality and sufficient intensity and duration to achieve the intended outcomes of the proposed project. To address this requirement, the applicant must describe—

(i) How it proposes to identify or develop the knowledge base of:

(A) An equity framework that includes guiding principles, EBPs, and key indicators of equity that is aligned with national professional organization personnel standards and State personnel standards to ensure that scholars in early childhood preparation programs have the knowledge, skills, competencies, and dispositions to serve young children with disabilities and their families from racially, ethnically, and linguistically diverse backgrounds;

(B) A professional development framework to build the capacity of faculty to strengthen their programs of study by developing, implementing, and sustaining an equity framework within the early childhood preparation programs;

(C) State personnel standards that reflect the knowledge, skills, competencies, and dispositions that early childhood personnel need to deliver equitable interventions and services for young children with disabilities and their families that IHEs can align to within their preparation programs; and

(D) Recruitment and retention frameworks with EBPs and innovative strategies for faculty, IHEs, and States to implement to attract, prepare, and graduate scholars from racially, ethnically, and linguistically diverse backgrounds; retain them in the early childhood profession; and attract and retain faculty from racially, ethnically, and linguistically diverse backgrounds in early childhood preparation programs;

(ii) Its proposed approach to universal, general TA,⁵ which must identify the intended recipients, including the type and number of recipients, that will receive the products and services, a description of the products and services that the project proposes to make available, and the expected impact of those products and services under this approach. At minimum, the approach must include activities focused on—

⁵ “Universal, general TA” means TA and information provided to independent users through their own initiative, resulting in minimal interaction with TA center staff and including one-time, invited or offered conference presentations by TA center staff. This category of TA also includes information or products, such as newsletters, guidebooks, or research syntheses, downloaded from the TA center's website by independent users. Brief communications by TA center staff with recipients, either by telephone or email, are also considered universal, general TA.

(A) Identifying and developing resources and materials to increase the awareness of the importance and benefits of increasing the number of early childhood personnel from racially, ethnically, and linguistically diverse backgrounds; and

(B) Identifying and developing materials, resources, and tools to help faculty, IHEs, and States implement the equity, professional development, and recruitment and retention frameworks and practices to strengthen early childhood preservice preparation programs of study to ensure that the early childhood workforce is diverse and prepared to serve young children and their families from racially, ethnically, and linguistically diverse backgrounds;

(iii) Its proposed approach to targeted, specialized TA,⁶ which must identify—

⁶ “Targeted, specialized TA” means TA services based on needs common to multiple recipients and not extensively individualized. A relationship is established between the TA recipient and one or more TA center staff. This category of TA includes one-time, labor-intensive events, such as facilitating strategic planning or hosting regional or national conferences. It can also include episodic, less labor-intensive events that extend over a period of time, such as facilitating a series of conference calls on single or multiple topics that are designed around the needs of the recipients. Facilitating communities of practice can also be considered targeted, specialized TA.

(A) The intended recipients, including the type and number of recipients, that will receive the products and services, a description of the products and services that the project proposes to make available, and the expected impact of those products and services under this approach;

(B) Its proposed approach to measure the readiness of potential TA recipients to work with the project, assessing, at a minimum, their current infrastructure, available resources, and ability to build capacity within their setting;

(C) Its proposed approach to identify and partner with faculty and IHEs at the associate, bachelor's, master's, and doctoral levels;

(D) The process by which the proposed project will collaborate with OSEP-funded early childhood preparation programs to embed the frameworks developed by the project within their preparation programs; and

(E) The process by which the proposed project will collaborate with other federally funded TA centers, including those funded by OSEP and the Department of Health and Human Services (HHS);

(iv) Its proposed approach to intensive, sustained TA,⁷ which must identify—

⁷ “Intensive, sustained TA” means TA services often provided on-site and requiring a stable, ongoing relationship between the TA center staff and the TA recipient. “TA services” are defined as negotiated series of activities designed to reach a valued outcome. This category of TA should result in changes to policy, program, practice, or operations that support increased recipient capacity or improved outcomes at one or more systems levels.

(A) The intended recipients, including the type and number of recipients, that will receive the services, a description of the services that the project proposes to make available, and the expected impact of those services under this approach;

(B) Its proposed approach to measure the readiness of potential TA recipients to work with the project, assessing, at a minimum, their current infrastructure, available resources, and ability to build capacity within their setting;

(C) Its proposed approach for partnering with States and the IHEs within the State to develop, implement, and sustain the infrastructure to implement recruitment and retention frameworks and practices to increase the number of scholars from racially, ethnically, and linguistically diverse backgrounds in early childhood preparation programs and in the early childhood profession and ensure that State personnel standards and IHE programs are aligned to ensure scholars are prepared to deliver equitable interventions and services for young children with disabilities and their families;

(D) The process by which the proposed project will collaborate with other federally funded TA centers, including those funded by OSEP and HHS, to increase the racial, ethnic, and linguistic diversity of the early childhood workforce and ensure they are prepared to serve young children with disabilities and their families from racially, ethnically, and linguistically diverse backgrounds; and

(E) The process by which the proposed project will ensure the use of TA practices supported by evidence and continuously evaluate the practices to improve the delivery of TA; and

(v) How the proposed project will use non-project resources to achieve the intended project outcomes;

(6) Develop products and implement services that maximize efficiency. To address this requirement, the applicant must describe—

(i) How the proposed project will use technology to achieve the intended project outcomes;

(ii) With whom the proposed project will collaborate and the intended outcomes of this collaboration; and

(iii) How the proposed project will use non-project resources to achieve the intended project outcomes; and

(7) Develop a dissemination plan that describes how the applicant will systematically distribute information, products, and services to varied intended audiences, using a variety of dissemination strategies, to promote awareness and use of the project's products and services.

(c) In the narrative section of the application under “Quality of the project evaluation,” include an evaluation plan for the project as described in the following paragraphs. The evaluation plan must describe measures of progress in implementation, including the criteria for determining the extent to which the project's products and services have met the goals for reaching its target population; measures of intended outcomes or results of the project's activities in order to evaluate those activities; and how well the goals or objectives of the proposed project, as described in its logic model, have been met.

The applicant must provide an assurance that, in designing the evaluation plan, it will—

(1) Designate, with the approval of the OSEP project officer, a project liaison with sufficient dedicated time, experience in evaluation, and knowledge of the project to work in collaboration with the Center to Improve Program and Project Performance (CIPP),⁸ the project director, and the OSEP project officer on the following tasks:

⁸ The major tasks of CIPP are to guide, coordinate, and oversee the design of formative evaluations for every large discretionary investment (i.e., those awarded $500,000 or more per year and required to participate in the 3+2 process) in OSEP's Technical Assistance and Dissemination; Personnel Development; Parent Training and Information Centers; and Educational Technology, Media, and Materials programs. The efforts of CIPP are expected to enhance individual project evaluation plans by providing expert and unbiased TA in designing the evaluations with due consideration of the project's budget. CIPP does not function as a third-party evaluator.

(i) Revise the logic model submitted in the application to provide for a more comprehensive measurement of implementation and outcomes and to reflect any changes or clarifications to the model discussed at the kick-off meeting;

(ii) Refine the evaluation design and instrumentation proposed in the application consistent with the revised logic model and using the most rigorous design suitable (e.g., prepare evaluation questions about significant program processes and outcomes; develop quantitative or qualitative data collections that permit both the collection of progress data, including fidelity of implementation, as appropriate, and the assessment of project outcomes; and identify analytic strategies); and

(iii) Revise the evaluation plan submitted in the application such that it—

(A) Clearly specifies the evaluation questions, measures, and associated instruments or sources for data appropriate to answer these questions, suggests analytic strategies for those data, provides a timeline for conducting the evaluation, and includes staff assignments for completing the evaluation activities;

(B) Clearly delineates the data expected to be available by the end of the second project year for use during the project's evaluation (3+2 review) for continued funding described under the heading Fourth and Fifth Years of the Project; and

(C) Can be used to assist the project director and the OSEP project officer, with the assistance of CIPP, as needed, to specify the project performance measures to be addressed in the project's annual performance report;

(2) Dedicate sufficient staff time and other resources during the first six months of the project to collaborate with CIPP staff, including regular meetings (e.g., weekly, biweekly, or monthly) with CIPP and the OSEP project officer, in order to accomplish the tasks described in this paragraph (c); and

(3) Dedicate sufficient funds in each budget year to cover the costs of carrying out the tasks described in this paragraph (c) and revising and implementing the evaluation plan. Please note in your budget narrative the funds dedicated for this activity.

(d) Demonstrate, in the narrative section of the application under “Adequacy of resources and quality of project personnel,” how—

(1) The proposed project will encourage applications for employment from persons who are members of groups that have traditionally been underrepresented based on race, color, national origin, gender, age, or disability, as appropriate;

(2) The proposed key project personnel, consultants, and subcontractors have the qualifications and experience to carry out the proposed activities and achieve the project's intended outcomes. Applicants must specifically demonstrate how the key project personnel have the necessary qualifications and experience in early childhood equity including, but not limited to—

(i) Development and evaluation of racially, ethnically, and linguistically responsive models of early learning, including evidence-based intervention and assessment practices, to support young children with disabilities and their families from racially, ethnically, and linguistically diverse backgrounds;

(ii) The intersection of race, ethnicity, linguistics, and disabilities in early childhood, social and emotional development, disproportionate and exclusionary discipline practices, and the impact of race, ethnicity, and linguistics on the early learning experiences of young children with disabilities and their families;

(iii) Equity-centered adult learning principles; and

(iv) Attracting, preparing, and retaining scholars and faculty from racially, ethnically, and linguistically diverse backgrounds in early childhood preparation programs;

(3) The applicant and any key partners have adequate resources to carry out the proposed activities; and

(4) The proposed costs are reasonable in relation to the anticipated results and benefits.

(e) Demonstrate, in the narrative section of the application under “Quality of the management plan,” how—

(1) The proposed management plan will ensure that the project's intended outcomes will be achieved on time and within budget. To address this requirement, the applicant must describe—

(i) Clearly defined responsibilities for key project personnel, consultants, and subcontractors, as applicable; and

(ii) Timelines and milestones for accomplishing the project tasks;

(2) Key project personnel and any consultants and subcontractors will be allocated and how these allocations are appropriate and adequate to achieve the project's intended outcomes;

(3) The proposed management plan will ensure that the products and services provided are of high quality, relevant, and useful to recipients; and

(4) The proposed project will benefit from a diversity of perspectives, including those of families, including those who are from racially, ethnically, and linguistically backgrounds; faculty; early childhood administrators and providers; TA providers; researchers; and policy makers; among others, in its development and operation.

(f) Address the following application requirements. The applicant must—

(1) Include, in Appendix A, personnel-loading charts and timelines, as applicable, to illustrate the management plan described in the narrative;

(2) Include, in the budget, attendance at the following:

(i) A one and one-half day virtual kick-off meeting after receipt of the award, and an annual virtual planning meeting with the OSEP project officer and other relevant staff during each subsequent year of the project period.

Note: Within 30 days of receipt of the award, a post-award teleconference must be held between the OSEP project officer and the grantee's project director or other authorized representative;

(ii) A two and one-half day project directors' conference in Washington, DC during each year of the project period. The project must reallocate funds for travel to the project directors' meeting no later than the end of the third quarter of each budget period if the meeting is conducted virtually;

(iii) Three annual two-day trips to attend Department briefings, Department-sponsored conferences, and other meetings, as requested by OSEP; and

(iv) A one-day virtual 3+2 review meeting during the second year of the project period;

(3) Include, in the budget, a line item for an annual set-aside of 5 percent of the grant amount to support emerging needs that are consistent with the proposed project's intended outcomes, as those needs are identified in consultation with, and approved by, the OSEP project officer. With approval from the OSEP project officer, the project must reallocate any remaining funds from this annual set-aside no later than the end of the third quarter of each budget period;

(4) Describe how the project will engage doctoral scholars or post-doctoral fellows in the work of the project to deepen the knowledge, skills, and competencies, and dispositions that future leaders in the field need to increase the racial, ethnic, and linguistic diversity of the early childhood workforce, ensure early childhood preparation programs are preparing scholars with the knowledge, skills, competencies, and dispositions to serve young children and their families from racially, ethnically, and linguistically diverse backgrounds; deliver equity-focused professional development and TA;

(5) Maintain a high-quality website, with an easy-to-navigate design, that meets government or industry- recognized standards for accessibility;

(6) Ensure that annual project progress toward meeting project goals is posted on the project website; and

(7) Include, in Appendix A, an assurance to assist OSEP with the transfer of pertinent resources and products and to maintain the continuity of services to States during the transition to a new award at the end of this award period, as appropriate.

Fourth and Fifth Years of the Project:

In deciding whether to continue funding the project for the fourth and fifth years, the Secretary will consider the requirements of 34 CFR 75.253(a), including—

(a) The recommendations of a 3+2 review team consisting of experts with knowledge and experience in personnel development and equity within the early childhood system. This review will be conducted during a one-day intensive meeting that will be held during the last half of the second year of the project period;

(b) The timeliness with which, and how well, the requirements of the negotiated cooperative agreement have been or are being met by the project; and

(c) The quality, relevance, and usefulness of the project's products and services and the extent to which the project's products and services are aligned with the project's objectives and likely to result in the project achieving its intended outcomes.

Under 34 CFR 75.253, the Secretary may reduce continuation awards or discontinue awards in any year of the project period for excessive carryover balances or a failure to make substantial progress. The Department intends to closely monitor unobligated balances and substantial progress under this program and may reduce or discontinue funding accordingly.

References:

Accavitti, M.R. & Williford, A.P. (2020). Teacher perceptions of externalizing behavior subtypes in preschool: Considering racial factors, Early Child Development and Care. https://doi.org/10.1080/03004430.2020.1825405.

Carver-Thomas, D. (2018). Diversifying the teaching profession: How to recruit and retain teachers of color. Learning Policy Institute.

Cochran-Smith, M., Ell, F., Grudnoff, L., Haigh, M., Hill, M., & Ludlow, L. (2016). Initial teacher education: What does it take to put equity at the center? Teaching and Teacher Education, 57, 67-78. https://doi.org/10.1016/j.tate.2016.03.006.

Davis, L., & Fry, R. (2019). College faculty have become more racially and ethnically diverse, but remain far less so than students. Pew Research Center. www.pewresearch.org/fact-tank/2019/07/31/us-college-faculty-student-diversity/.

Frey, W. H. (2018, March 14). The U.S. will become “minority white” in 2045, Census projects. Brookings Institute. www.brookings.edu/blog/the-avenue/2018/03/14/the-us-will-become-minority-white-in-2045-census-projects/.

James, C. & Iruka, I. (2018). Delivering on the promise of effective early childhood education. National Black Child Development Institute. www.nbcdi.org/sites/default/files/resource-files/Delivering%20on%20the%20Promise%20of%20Effective%20Early%20Childhood%20Education.pdf.

Kunemund, R., McCullough, S., Williams, C., Miller, C., Sutherland, K., Conroy, M., & Granger, K. (2020). The mediating role of teacher self-efficacy in the relation between teacher-child race mismatch and conflict. Psychology in the Schools, 57, https://doi.org/10.1002/pits.22419.

Luo, R., Song, L., Villacis, C., & Santiago-Bonilla, G. (2021). Parental Beliefs and Knowledge, Children's Home Language Experiences, and School Readiness: The Dual Language Perspective. Frontiers in Psychology, 12. https://doi.org/10.3389/fpsyg.2021.661208.

Marchitello, M. & Trinidad, J. (2019). Preparing teachers for diverse schools: Lessons from minority serving institutions. Bellwether Education Partners. http://bellwethereducation.org/.

National Center on Early Childhood Development, Teaching, and Learning. (2018). Workforce development: Higher education and preservice professional preparation. https://eclkc.ohs.acf.hhs.gov/sites/default/files/pdf/workforce-development-higher-education.pdf.

U.S. Department of Education. (2020). EDFacts Data Warehouse: “IDEA Part B Child Count and Educational Environments Collection” & “IDEA Part C Child Count and Settings Collection,” 2019-20. https://www2.ed.gov/programs/osepidea/618-data/collection-documentation/data-documentation-files/part-b/child-count-and-educational-environment/idea-partb-childcountandedenvironment-2019-20.pdf and https://www2.ed.gov/programs/osepidea/618-data/collection-documentation/data-documentation-files/part-c/child-count-and-settings/idea-partc-childcountandsettings-2019-20.pdf.

U.S. Department of Education, National Center for Education Statistics. (2020). The Condition of Education 2020 (NCES 2020-144), Characteristics of Postsecondary Faculty. https://nces.ed.gov/pubsearch/pubsinfo.asp?pubid=2020144.

U.S. Department of Education, Office of Special Education Programs. 2021. Personnel Development Program Data Collection System.

ZERO TO THREE. (2021). State of Babies Yearbook: 2021. https://stateofbabies.org/.

Waiver of Proposed Rulemaking: Under the Administrative Procedure Act (APA) (5 U.S.C. 553) the Department generally offers interested parties the opportunity to comment on proposed priorities. Section 681(d) of IDEA, however, makes the public comment requirements of the APA inapplicable to the priority in this notice.

Program Authority: 20 U.S.C. 1462 and 1481.

Note: Projects will be awarded and must be operated in a manner consistent with the nondiscrimination requirements contained in Federal civil rights laws.

Applicable Regulations: (a) The Education Department General Administrative Regulations in 34 CFR parts 75, 77, 79, 81, 82, 84, 86, 97, 98, and 99. (b) The Office of Management and Budget Guidelines to Agencies on Governmentwide Debarment and Suspension (Nonprocurement) in 2 CFR part 180, as adopted and amended as regulations of the Department in 2 CFR part 3485. (c) The Uniform Administrative Requirements, Cost Principles, and Audit Requirements for Federal Awards in 2 CFR part 200, as adopted and amended as regulations of the Department in 2 CFR part 3474.

Note: The regulations in 34 CFR part 79 apply to all applicants except federally recognized Indian Tribes.

Note: The regulations in 34 CFR part 86 apply to IHEs only.

II. Award Information

Type of Award: Cooperative agreement.

Estimated Available Funds: The Administration has requested $250,000,000 for the Personnel Development to Improve Services and Results for Children With Disabilities program for FY 2022, of which we intend to use an estimated $2,000,000 for this competition. The actual level of funding, if any, depends on final congressional action. However, we are inviting applications to allow enough time to complete the grant process if Congress appropriates funds for this program.

Contingent upon the availability of funds and the quality of applications, we may make additional awards in FY 2023 from the list of unfunded applications from this competition.

Maximum Award: We will not make an award exceeding $2,000,000 for a single budget period of 12 months

Estimated Number of Awards: 1.

Note: The Department is not bound by any estimates in this notice.

Project Period: Up to 60 months.

III. Eligibility Information

1. Eligible Applicants: State educational agencies; State lead agencies under Part C of the IDEA; LEAs, including public charter schools that are considered LEAs under State law; IHEs; other public agencies; private nonprofit organizations; freely associated States and outlying areas; Indian Tribes or Tribal organizations; and for-profit organizations.

2. a. Cost Sharing or Matching: This competition does not require cost sharing or matching.

b. Indirect Cost Rate Information: This program uses an unrestricted indirect cost rate. For more information regarding indirect costs, or to obtain a negotiated indirect cost rate, please see www2.ed.gov/about/offices/list/ocfo/intro.html.

c. Administrative Cost Limitation: This program does not include any program-specific limitation on administrative expenses. All administrative expenses must be reasonable and necessary and conform to Cost Principles described in 2 CFR part 200 subpart E of the Uniform Guidance.

3. Subgrantees: A grantee under this competition may not award subgrants to entities to directly carry out project activities described in its application. Under 34 CFR 75.708(e), a grantee may contract for supplies, equipment, and other services in accordance with 2 CFR part 200.

4. Other General Requirements:

(a) Recipients of funding under this competition must make positive efforts to employ and advance in employment qualified individuals with disabilities (see section 606 of IDEA).

(b) Applicants for, and recipients of, funding must, with respect to the aspects of their proposed project relating to the absolute priority, involve individuals with disabilities, or parents of individuals with disabilities ages birth through 26, in planning, implementing, and evaluating the project (see section 682(a)(1)(A) of IDEA).

IV. Application and Submission Information

1. Application Submission Instructions: Applicants are required to follow the Common Instructions for Applicants to Department of Education Discretionary Grant Programs, published in the Federal Register on December 27, 2021 (86 FR 73264) and available at www.federalregister.gov/d/2021-27979, which contain requirements and information on how to submit an application. Please note that these Common Instructions supersede the version published on February 13, 2019, and, in part, describe the transition from the requirement to register in SAM.gov a DUNS number to the implementation of the UEI. More information on the phase-out of DUNS numbers is available at https://www2.ed.gov/about/offices/list/ofo/docs/unique-entity-identifier-transition-fact-sheet.pdf.

2. Intergovernmental Review: This competition is subject to Executive Order 12372 and the regulations in 34 CFR part 79. Information about Intergovernmental Review of Federal Programs under Executive Order 12372 is in the application package for this competition.

3. Funding Restrictions: We reference regulations outlining funding restrictions in the Applicable Regulations section of this notice.

4. Recommended Page Limit: The application narrative is where you, the applicant, address the selection criteria that reviewers use to evaluate your application. We recommend that you (1) limit the application narrative to no more than 70 pages and (2) use the following standards:

• A “page” is 8.5″ x 11″, on one side only, with 1″ margins at the top, bottom, and both sides.

• Double-space (no more than three lines per vertical inch) all text in the application narrative, including titles, headings, footnotes, quotations, reference citations, and captions, as well as all text in charts, tables, figures, graphs, and screen shots.

• Use a font that is 12 point or larger.

• Use one of the following fonts: Times New Roman, Courier, Courier New, or Arial.

The recommended page limit does not apply to the cover sheet; the budget section, including the narrative budget justification; the assurances and certifications; or the abstract (follow the guidance provided in the application package for completing the abstract), the table of contents, the list of priority requirements, the resumes, the reference list, the letters of support, or the appendices. However, the recommended page limit does apply to all of the application narrative, including all text in charts, tables, figures, graphs, and screen shots.

V. Application Review Information

1. Selection Criteria: The selection criteria for this competition are from 34 CFR 75.210 and are listed below:

(a) Significance (10 points).

(1) The Secretary considers the significance of the proposed project.

(2) In determining the significance of the proposed project, the Secretary considers the following factors:

(i) The extent to which specific gaps or weaknesses in services, infrastructure, or opportunities have been identified and will be addressed by the proposed project, including the nature and magnitude of those gaps or weaknesses.

(ii) The importance or magnitude of the results or outcomes likely to be attained by the proposed project.

(b) Quality of project services (35 points).

(1) The Secretary considers the quality of the services to be provided by the proposed project.

(2) In determining the quality of the services to be provided by the proposed project, the Secretary considers the quality and sufficiency of strategies for ensuring equal access and treatment for eligible project participants who are members of groups that have traditionally been underrepresented based on race, color, national origin, gender, age, or disability.

(3) In addition, the Secretary considers the following factors:

(i) The extent to which the goals, objectives, and outcomes to be achieved by the proposed project are clearly specified and measurable.

(ii) The extent to which there is a conceptual framework underlying the proposed research or demonstration activities and the quality of that framework.

(iii) The extent to which the services to be provided by the proposed project reflect up-to-date knowledge from research and effective practice.

(iv) The extent to which the training or professional development services to be provided by the proposed project are of sufficient quality, intensity, and duration to lead to improvements in practice among the recipients of those services.

(v) The extent to which the TA services to be provided by the proposed project involve the use of efficient strategies, including the use of technology, as appropriate, and the leveraging of non-project resources.

(c) Quality of the project evaluation (15 points).

(1) The Secretary considers the quality of the evaluation to be conducted of the proposed project.

(2) In determining the quality of the evaluation, the Secretary considers the following factors:

(i) The extent to which the methods of evaluation are thorough, feasible, and appropriate to the goals, objectives, and outcomes of the proposed project.

(ii) The extent to which the methods of evaluation provide for examining the effectiveness of project implementation strategies.

(iii) The extent to which the methods of evaluation will provide performance feedback and permit periodic assessment of progress toward achieving intended outcomes.

(d) Adequacy of resources and quality of project personnel (20 points).

(1) The Secretary considers the adequacy of resources for the proposed project and the quality of the personnel who will carry out the proposed project.

(2) In determining the quality of project personnel, the Secretary considers the extent to which the applicant encourages applications for employment from persons who are members of groups that have traditionally been underrepresented based on race, color, national origin, gender, age, or disability.

(3) In addition, the Secretary considers the following factors:

(i) The qualifications, including relevant training and experience, of key project personnel.

(ii) The qualifications, including relevant training and experience, of project consultants or subcontractors.

(iii) The adequacy of support, including facilities, equipment, supplies, and other resources, from the applicant organization or the lead applicant organization.

(iv) The relevance and demonstrated commitment of each partner in the proposed project to the implementation and success of the project.

(v) The extent to which the costs are reasonable in relation to the objectives, design, and potential significance of the proposed project.

(e) Quality of the management plan (20 points).

(1) The Secretary considers the quality of the management plan for the proposed project.

(2) In determining the quality of the management plan for the proposed project, the Secretary considers the following factors:

(i) The adequacy of the management plan to achieve the objectives of the proposed project on time and within budget, including clearly defined responsibilities, timelines, and milestones for accomplishing project tasks.

(ii) The extent to which the time commitments of the project director and principal investigator and other key project personnel are appropriate and adequate to meet the objectives of the proposed project.

(iii) The adequacy of mechanisms for ensuring high-quality products and services from the proposed project.

(iv) How the applicant will ensure that a diversity of perspectives is brought to bear in the operation of the proposed project, including those of parents, teachers, the business community, a variety of disciplinary and professional fields, recipients or beneficiaries of services, or others, as appropriate.

2. Review and Selection Process: We remind potential applicants that in reviewing applications in any discretionary grant competition, the Secretary may consider, under 34 CFR 75.217(d)(3), the past performance of the applicant in carrying out a previous award, such as the applicant's use of funds, achievement of project objectives, and compliance with grant conditions. The Secretary may also consider whether the applicant failed to submit a timely performance report or submitted a report of unacceptable quality.

In addition, in making a competitive grant award, the Secretary requires various assurances, including those applicable to Federal civil rights laws that prohibit discrimination in programs or activities receiving Federal financial assistance from the Department (34 CFR 100.4, 104.5, 106.4, 108.8, and 110.23).

3. Additional Review and Selection Process Factors: In the past, the Department has had difficulty finding peer reviewers for certain competitions because so many individuals who are eligible to serve as peer reviewers have conflicts of interest. The standing panel requirements under section 682(b) of IDEA also have placed additional constraints on the availability of reviewers. Therefore, the Department has determined that for some discretionary grant competitions, applications may be separated into two or more groups and ranked and selected for funding within specific groups. This procedure will make it easier for the Department to find peer reviewers by ensuring that greater numbers of individuals who are eligible to serve as reviewers for any particular group of applicants will not have conflicts of interest. It also will increase the quality, independence, and fairness of the review process, while permitting panel members to review applications under discretionary grant competitions for which they also have submitted applications.

4. Risk Assessment and Specific Conditions: Consistent with 2 CFR 200.206, before awarding grants under this competition the Department conducts a review of the risks posed by applicants. Under 2 CFR 200.208, the Secretary may impose specific conditions, and under 2 CFR 3474.10, in appropriate circumstances, high-risk conditions on a grant if the applicant or grantee is not financially stable; has a history of unsatisfactory performance; has a financial or other management system that does not meet the standards in 2 CFR part 200, subpart D; has not fulfilled the conditions of a prior grant; or is otherwise not responsible.

5. Integrity and Performance System: If you are selected under this competition to receive an award that over the course of the project period may exceed the simplified acquisition threshold (currently $250,000), under 2 CFR 200.206(a)(2) we must make a judgment about your integrity, business ethics, and record of performance under Federal awards—that is, the risk posed by you as an applicant—before we make an award. In doing so, we must consider any information about you that is in the integrity and performance system (currently referred to as the Federal Awardee Performance and Integrity Information System (FAPIIS)), accessible through the System for Award Management. You may review and comment on any information about yourself that a Federal agency previously entered and that is currently in FAPIIS.

Please note that, if the total value of your currently active grants, cooperative agreements, and procurement contracts from the Federal Government exceeds $10,000,000, the reporting requirements in 2 CFR part 200, Appendix XII, require you to report certain integrity information to FAPIIS semiannually. Please review the requirements in 2 CFR part 200, Appendix XII, if this grant plus all the other Federal funds you receive exceed $10,000,000.

6. In General: In accordance with the Office of Management and Budget's guidance located at 2 CFR part 200, all applicable Federal laws, and relevant Executive guidance, the Department will review and consider applications for funding pursuant to this notice inviting applications in accordance with—

(a) Selecting recipients most likely to be successful in delivering results based on the program objectives through an objective process of evaluating Federal award applications (2 CFR 200.205);

(b) Prohibiting the purchase of certain telecommunication and video surveillance services or equipment in alignment with section 889 of the National Defense Authorization Act of 2019 (Pub. L. 115-232) (2 CFR 200.216);

(c) Providing a preference, to the extent permitted by law, to maximize use of goods, products, and materials produced in the United States (2 CFR 200.322); and

(d) Terminating agreements in whole or in part to the greatest extent authorized by law if an award no longer effectuates the program goals or agency priorities (2 CFR 200.340).

VI. Award Administration Information

1. Award Notices: If your application is successful, we notify your U.S. Representative and U.S. Senators and send you a Grant Award Notification (GAN); or we may send you an email containing a link to access an electronic version of your GAN. We may notify you informally, also.

If your application is not evaluated or not selected for funding, we notify you.

2. Administrative and National Policy Requirements: We identify administrative and national policy requirements in the application package and reference these and other requirements in the Applicable Regulations section of this notice.

We reference the regulations outlining the terms and conditions of an award in the Applicable Regulations section of this notice and include these and other specific conditions in the GAN. The GAN also incorporates your approved application as part of your binding commitments under the grant.

3. Open Licensing Requirements: Unless an exception applies, if you are awarded a grant under this competition, you will be required to openly license to the public grant deliverables created in whole, or in part, with Department grant funds. When the deliverable consists of modifications to pre-existing works, the license extends only to those modifications that can be separately identified and only to the extent that open licensing is permitted under the terms of any licenses or other legal restrictions on the use of pre-existing works. Additionally, a grantee that is awarded competitive grant funds must have a plan to disseminate these public grant deliverables. This dissemination plan can be developed and submitted after your application has been reviewed and selected for funding. For additional information on the open licensing requirements please refer to 2 CFR 3474.20.

4. Reporting: (a) If you apply for a grant under this competition, you must ensure that you have in place the necessary processes and systems to comply with the reporting requirements in 2 CFR part 170 should you receive funding under the competition. This does not apply if you have an exception under 2 CFR 170.110(b).

(b) At the end of your project period, you must submit a final performance report, including financial information, as directed by the Secretary. If you receive a multiyear award, you must submit an annual performance report that provides the most current performance and financial expenditure information as directed by the Secretary under 34 CFR 75.118. The Secretary may also require more frequent performance reports under 34 CFR 75.720(c). For specific requirements on reporting, please go to www.ed.gov/fund/grant/apply/appforms/appforms.html.

5. Performance Measures: For the purposes of Department reporting under 34 CFR 75.110, we have established a set of performance measures, including long-term measures, that are designed to yield information on various aspects of the effectiveness and quality of the Technical Assistance and Dissemination to Improve Services and Results for Children With Disabilities program. These measures are:

• Program Performance Measure 1: The percentage of Technical Assistance and Dissemination products and services deemed to be of high quality by an independent review panel of experts qualified to review the substantive content of the products and services.

• Program Performance Measure 2: The percentage of Special Education Technical Assistance and Dissemination products and services deemed by an independent review panel of qualified experts to be of high relevance to educational and early intervention policy or practice.

• Program Performance Measure 3: The percentage of all Special Education Technical Assistance and Dissemination products and services deemed by an independent review panel of qualified experts to be useful in improving educational or early intervention policy or practice.

• Program Performance Measure 4: The cost efficiency of the Technical Assistance and Dissemination Program includes the percentage of milestones achieved in the current annual performance report period and the percentage of funds spent during the current fiscal year.

• Long-term Program Performance Measure: The percentage of States receiving Special Education Technical Assistance and Dissemination services regarding scientifically based practices or EBPs for infants, toddlers, children, and youth with disabilities that successfully promote the implementation of those practices in school districts and service agencies.

The measures apply to projects funded under this competition, and grantees are required to submit data on these measures as directed by OSEP.

Grantees will be required to report information on their project's performance in annual and final performance reports to the Department (34 CFR 75.590).

The Department will also closely monitor the extent to which the products and services provided by the Center meet needs identified by stakeholders and may require the Center to report on such alignment in their annual and final performance reports.

6. Continuation Awards: In making a continuation award under 34 CFR 75.253, the Secretary considers, among other things: Whether a grantee has made substantial progress in achieving the goals and objectives of the project; whether the grantee has expended funds in a manner that is consistent with its approved application and budget; and, if the Secretary has established performance measurement requirements, whether the grantee has made substantial progress in achieving the performance targets in the grantee's approved application.

In making a continuation award, the Secretary also considers whether the grantee is operating in compliance with the assurances in its approved application, including those applicable to Federal civil rights laws that prohibit discrimination in programs or activities receiving Federal financial assistance from the Department (34 CFR 100.4, 104.5, 106.4, 108.8, and 110.23).

VII. Other Information

Accessible Format: On request to the program contact person listed under FOR FURTHER INFORMATION CONTACT, individuals with disabilities can obtain this document and a copy of the application package in an accessible format. The Department will provide the requestor with an accessible format that may include Rich Text Format (RTF) or text format (txt), a thumb drive, an MP3 file, braille, large print, audiotape, or compact disc, or other accessible format.

Electronic Access to This Document: The official version of this document is the document published in the Federal Register. You may access the official edition of the Federal Register and the Code of Federal Regulations at www.govinfo.gov. At this site you can view this document, as well as all other documents of this Department published in the Federal Register, in text or Portable Document Format (PDF). To use PDF you must have Adobe Acrobat Reader, which is available free at the site.

You may also access documents of the Department published in the Federal Register by using the article search feature at www.federalregister.gov. Specifically, through the advanced search feature at this site, you can limit your search to documents published by the Department.

Katherine Neas,
Deputy Assistant Secretary, Delegated the authority to perform the functions and duties of the Assistant Secretary for the Office of Special Education and Rehabilitative Services.

[FR Doc. 2022-05622 Filed 3-16-22; 8:45 am]

BILLING CODE 4000-01-P